DEPARTMENT OF DEFENSE

Office of the Secretary

[DoD-2007-OS-0046]

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: The changes will be effective on June 8, 2007 unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on May 2, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: May 3, 2007.
L.M. Bynum,
Alternative OSD Federal Register Liaison Officer, Department of Defense.

DoDEA 27

System name:

Department of Defense Education Activity Research Approval Process.

System location:

Department of Defense Education Activity, 4040 North Fairfax Drive, Arlington, VA 22203-1635.

Categories of individuals covered by the system:

Individuals who have requested, or whom Department of Defense Education Activity (DoDEA) has requested, or whom DoDEA has otherwise authorized, to conduct research involving DoDEA staff, DoDEA students, or parents/sponsors of DoDEA students.

Categories of records in the system:

Research proposals, including the researcher(s)' name, address, email address, telephone number, the university or research affiliation of the researcher, DoDEA Form 2071.3-F1, Research Study Request, and related supporting documents.

Authority for maintenance of the system:

10 U.S.C. 113, Secretary of Defense; 10 U.S.C. 2164, Department of Defense Elementary and Secondary Schools; and 20 U.S.C. 921-932 Overseas Defense Dependent's Education.

Purpose(s):

A management tool on research projects concerning Department of Defense Education Activity students, parent(s)/sponsor(s), and faculty or staff.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the OSD's compilation of systems of records notices also apply to this system.

Policies and practices for storing, retrieving, accessing, retaining, and disposing of records in the system:

Storage:

Records are file folders and electronic storage media.

Retrievability:

Individual's name, case number, subject matter of the research project, and location(s) where the research is being conducted.

Safeguards:

Access is provided on a ‘need-to-know’ basis and to authorized authenticated personnel only. Records are maintained in controlled access rooms or areas. Computer terminal access is controlled by terminal identification and the password or similar system. Physical access to terminals is restricted to specifically authorized individuals. Password authorization, assignment and monitoring are the responsibility of the functional managers.

Retention and disposal:

Destroy 7 years after completion, or when no longer needed for reference. Paper records are destroyed by shredding. Electronic records are destroyed by shredding of computer disks and permanent deletion of files stored on computer hard drives.

System manager(s) and address:

Chief, Office of Research and Evaluation, Education Directorate, Department of Defense Education Activity, 4040 North Fairfax Drive, Arlington, VA 22203-1635.

Notification procedure:

Individuals seeking to determine whether information about themselves is contained in this system of record should address written inquiries to the Privacy Act Officer, Department of Defense Dependents Schools, 4040 North Fairfax Drive, Arlington, VA 22203-1635.

Written requests should contain the individual name and address and must be signed.

Record access procedures:

Individuals seeking access to information about themselves contained in this system of records should address written inquiries to the Privacy Act Officer, Department of Defense Dependents Schools, 4040 North Fairfax Drive, Arlington, VA 22203-1635.

Written requests should contain the individual name and address and must be signed.

Contesting record procedures:

The OSD rules for accessing records, for contesting contents and appealing initial agency determinations are published in OSD Administrative Instruction 81; 32 CFR part 311; or may be obtained from the system manager.

Record source categories:

Individuals who have requested permission to conduct research, which have been appointed by Department of Defense Education Activity (DoDEA), or otherwise authorized by DoDEA to conduct research.

Exemptions claimed for the system:

None.

[FR Doc. E7-8863 Filed 5-8-07; 8:45 am]

BILLING CODE 5001-06-P